DEPARTMENT OF LABOR

Employment and Training Administration

Comment Request for Extension of Information Collection (Without Revisions): Form ETA 9033-A, Attestation by Employers Using Alien Crewmembers for Longshore Activities in Alaska, OMB Control No. 1205-0352

AGENCY: Employment and Training Administration, Labor.

ACTION: Notice.

SUMMARY: The Department of Labor (Department), as part of its continuing effort to reduce paperwork and respondent burden, is conducting a pre-clearance consultation to provide the general public and Federal agencies with an opportunity to comment on the continuing collections of information in accordance with the Paperwork Reduction Act of 1995 (PRA) 44 U.S.C. 3506(c)(2)(A). The Department undertakes this consultation to ensure that requested data can be provided in the desired format, reporting burden (time and financial resources) is minimized, collection instruments are clearly understood, and the impact of collection requirements on respondents can be properly assessed. Through this Notice, the Employment and Training Administration is soliciting comments concerning the extension of the approval for an information collection by Form ETA 9033-A, OMB Control Number 1205-0352, Attestation by Employers Using Alien Crewmembers for Longshore Activities in the State of Alaska, which expires on September 30, 2011. A copy of the proposed information collection request (ICR) can be obtained by contacting the office listed below in the For Further Information Contact section of this notice.

DATES: Please submit written comments to the office listed in the FOR FURTHER INFORMATION CONTACT section below on or before July 11, 2011.

FOR FURTHER INFORMATION CONTACT: William L. Carlson, Ph.D., Administrator, Office of Foreign Labor Certification, U.S. Department of Labor, Room C4312, 200 Constitution Ave., NW., Washington, DC 20210; by phone at (202) 693-3010 (this is not a toll-free number); by fax at (202) 693-2768; or by e-mail at ETA.OFLC.Forms@dol.gov subject line: Form ETA 9033-A.

SUPPLEMENTARY INFORMATION:

I. Background

The information collection is required by section 258 of the Immigration and Nationality Act (INA) 8 U.S.C. 1288. The INA generally prohibits the performance of longshore work by alien crewmembers, however the INA provides an exception to this prohibition for ports in the State of Alaska. Under this Alaska exception, before any employer may use alien crewmembers to perform longshore activities in the State of Alaska, it must submit an attestation to the Secretary of Labor containing the elements prescribed by the INA at 8 U.S.C. 1288(d). The INA further requires that the Secretary of Labor make available for public examination in Washington, DC a list of employers that have filed attestations and, for each of these employers, a copy of the employer's attestation and accompanying documentation received by the Secretary. 8 U.S.C. 1288(d)(5).

II. Review Process

The Department is particularly interested in comments which:

• Evaluate whether the proposed collection of information is necessary for the proper performance of the functions of the agency, including whether the information will have practical utility;

• Evaluate the accuracy of the Department's estimate of the burden of the proposed collection of information, including the validity of the methodology and assumptions used;

• Enhance the quality, utility, and clarity of the information to be collected; and

• Minimize the burden of the collection of information, including through the use of appropriate automated, electronic, mechanical, or other technological collection techniques or other forms of information technology, e.g., permitting electronic submissions of responses.

III. Current Actions

In order to meet its statutory responsibilities under the INA, the Department needs to extend an existing collection of information pertaining to employers seeking to use alien crewmembers to perform longshore activities in the State of Alaska.

Type of Review: Extension (without revisions) of a currently approved information collection.

Agency: Employment and Training Administration.

Title: Attestations by Employers Using Alien Crewmembers for Longshore Activities in the State of Alaska.

OMB Number: 1205-0352.

Agency Form(s): Form ETA 9033-A.

Recordkeeping: On occasion.

Affected Public: Businesses or other for-profits.

Total Respondents: 7.

Estimated Total Burden Hours: 21.

Total Burden Cost (capital/startup): 0.

Total Burden Cost (operating/maintaining): 0.

The Department will summarize and include (or both) comments submitted in response to this comment request in its request for Office of Management and Budget approval of the information collection. The comments will also become a matter of public record.

Signed in Washington, DC, this 2nd day of May 2011.
Jane Oates,
Assistant Secretary, Employment and Training Administration.

[FR Doc. 2011-11192 Filed 5-9-11; 8:45 am]

BILLING CODE 4510-FP-P